DEPARTMENT OF LABOR

Employment and Training Administration

[TA-W-56,561]

Citicorp Credit Services, Inc. (USA), Middleburg Heights, OH; Dismissal of Application for Reconsideration

Pursuant to 29 CFR 90.18(C) an application for administrative reconsideration was filed with the Director of the Division of Trade Adjustment Assistance for workers at Citicorp Credit Services, Inc. (USA), Middleburg, Heights, Ohio. The application contained no new substantial information which would bear importantly on the Department's determination. Therefore, dismissal of the application was issued.

TA-W-56,561; Citicorp Credit Services, Inc. (USA) Middleburg Heights, Ohio (May 9, 2005)

Signed at Washington, DC, this 13th day of May 2005.
Timothy Sullivan,
Director, Division of Trade Adjustment Assistance.

[FR Doc. E5-2514 Filed 5-18-05; 8:45 am]

BILLING CODE 4510-30-P